DEPARTMENT OF COMMERCE

Foreign-Trade Zones Board

[S-172-2025]

Foreign-Trade Zone 155; Application for Subzone; A&K Railroad Materials, Inc.; Eagle Lake, Texas

An application has been submitted to the Foreign-Trade Zones (FTZ) Board by the Calhoun-Victoria Foreign-Trade Zone, Inc., grantee of FTZ 155, requesting subzone status for the facility of A&K Railroad Materials, Inc., located in Eagle Lake, Texas. The application was submitted pursuant to the provisions of the Foreign-Trade Zones Act, as amended (19 U.S.C. 81a-81u), and the regulations of the FTZ Board (15 CFR part 400). It was formally docketed on June 16, 2025.

The proposed subzone (22.33 acres) is located at 1000 Carter Walker Lane, Eagle Lake, Texas. No authorization for production activity has been requested at this time. The proposed subzone would be subject to the existing activation limit of FTZ 155.

In accordance with the FTZ Board's regulations, Camille Evans of the FTZ Staff is designated examiner to review the application and make recommendations to the Executive Secretary.

Public comment is invited from interested parties. Submissions shall be addressed to the FTZ Board's Executive Secretary and sent to: ftz@trade.gov. The closing period for their receipt is July 28, 2025. Rebuttal comments in response to material submitted during the foregoing period may be submitted through August 12, 2025.

A copy of the application will be available for public inspection in the “Online FTZ Information Section” section of the FTZ Board's website, which is accessible via www.trade.gov/ftz.

For further information, contact Camille Evans at Camille.Evans@trade.gov.

Dated: June 16, 2025.
Elizabeth Whiteman,
Executive Secretary.

[FR Doc. 2025-11235 Filed 6-17-25; 8:45 am]

BILLING CODE 3510-DS-P